DEPARTMENT OF TRANSPORTATION

Federal Railroad Administration

[Docket No. FRA-2019-0004-N-21]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, this notice announces that FRA is forwarding the Information Collection Requests (ICRs) abstracted below to the Office of Management and Budget (OMB) for review and comment. The ICRs describe the information collections and their expected burden. On October 2, 2019, FRA published a notice providing a 60-day period for public comment on the ICRs.

DATES: Interested persons are invited to submit comments on or before January 15, 2020.

ADDRESSES: Submit written comments on the ICRs to the Office of Information and Regulatory Affairs, Office of Management and Budget, 725 17th Street NW, Washington, DC 20503, Attention: FRA Desk Officer. Comments may also be sent via email to OMB at the following address: oira_submissions@omb.eop.gov.

FOR FURTHER INFORMATION CONTACT: Ms. Hodan Wells, Information Collection Clearance Officer, Office of Railroad Safety, Federal Railroad Administration, 1200 New Jersey Avenue SE, Washington, DC 20590 (telephone: (202) 493-0440) or Ms. Kim Toone, Information Collection Clearance Officer, Office of Information Technology, Federal Railroad Administration, 1200 New Jersey Avenue SE, Washington, DC 20590 (telephone: (202) 493-6132).

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On October 2, 2019, FRA published a 60-day notice in the Federal Register soliciting public comment on the ICRs for which it is now seeking OMB approval. See 84 FR 52588. FRA received one comment from the Brotherhood of Railroad Signalmen (BRS), the collective bargaining representative for approximately 10,000 signal employees. BRS supports the information collection activities of both ICRs, considering them necessary to FRA's regulatory duties and public safety responsibilities. BRS urges FRA to continue to collect this information, noting that the information provided from these activities can help guide FRA in solving issues related to warning system failures at crossings and highway-rail grade crossing accidents.

Before OMB decides whether to approve these proposed collections of information, it must provide 30-days' notice for public comment. Federal law requires OMB to approve or disapprove paperwork packages between 30 and 60 days after the 30-day notice is published. 44 U.S.C. 3507(b)-(c); 5 CFR 1320.10(b) and 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICRs regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Grade Crossing Signal System Safety Regulations.

OMB Control Number: 2130-0534.

Abstract: FRA believes that highway-rail grade crossing (grade crossing) accidents resulting from warning system failures can be reduced. Accordingly, FRA's regulations require railroads to take specific responses in the event of an activation failure. An activation failure is defined as when a grade crossing warning system fails to indicate the approach of a train at least 20 seconds prior to the train's arrival at the crossing or to indicate the presence of a train occupying the crossing. Specifically, railroads must report to FRA every impact between on-track railroad equipment and an automobile, bus, truck, motorcycle, bicycle, farm vehicle, or pedestrian at a highway-rail grade crossing involving a crossing warning system activation failure. Notification must be provided to the National Response Center within 24 hours of occurrence at the stipulated toll-free telephone number. Additionally, railroads must report to FRA within 15 days of each activation failure of a highway-rail grade warning system. Form FRA F 6180.83, “Highway-Rail Grade Crossing Warning System Activation Failure Report,” ¹ must be used for this purpose and completed using the instructions printed on the form. With this information, FRA can identify the causes of activation failures and investigate them to determine whether periodic maintenance, inspection, and testing standards are effective.

¹ FRA makes a technical correction to the title of Form FRA F 6180.83 in this notice.

Type of Request: Extension with change (revised estimates) of a currently approved collection.

Affected Public: Businesses (railroads).

Form(s): FRA F 6180.83.

Respondent Universe: 746 railroads.

Frequency of Submission: On occasion/monthly.

Total Estimated Annual Responses: 60,252.

Total Estimated Annual Burden: 5,042 hours.

Total Estimated Annual Burden Hour Dollar Cost Equivalent: $342,863.

Title: Alleged Violation Reporting Form.

OMB Control Number: 2130-0590.

Abstract: The Alleged Violation Reporting Form is a response to section 307(b) of the Rail Safety Improvement Act of 2008, which requires FRA to “provide a mechanism for the public to submit written reports of potential violations of Federal railroad safety and hazardous materials transportation laws, regulations, and orders to the Federal Railroad Administration.” The Alleged Violation Reporting Form allows the general public to submit alleged violations directly to FRA. The form allows FRA to collect information necessary to investigate the alleged violation and to follow up with the submitting party. FRA may share the information collected with partnering State departments of transportation and law enforcement agencies.

Type of Request: Extension with change (revised estimates) of a currently approved collection.

Affected Public: General public.

Form(s): FRA F 6180.151.

Respondent Universe: ² 570 individuals.

² After an internal agency review, FRA updated the respondent universe estimate.

Frequency of Submission: On occasion.

Total Estimated Annual Responses: 570.

Total Estimated Annual Burden: 48 hours.

Total Estimated Annual Burden Hour Dollar Cost Equivalent: $1,296.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2019-26995 Filed 12-13-19; 8:45 am]

BILLING CODE 4910-06-P